DEPARTMENT OF COMMERCE

National Oceanic and Atmospheric Administration

[I.D. 022707E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Advisory Panels and its Scallop Committee in March, 2007, to consider actions affecting New England fisheries in the exclusive economic zone (EEZ). Recommendations from these groups will be brought to the full Council for formal consideration and action, if appropriate

DATES: These meetings will be held on Monday, March 19, 2007, at 8 a.m. and Tuesday, March 20, 2007, at 8:30 a.m.

ADDRESSES: These meetings will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel's schedule and agenda for the meetings are as follows:

1. Monday, March 19, 2007; General Category Scallop Advisory Panel Meeting, 8 a.m. - 11 a.m. and a Joint General Category and Scallop Advisory Panel Meeting, 12 p.m. - 5 p.m.

In the morning, the General Category advisors will meet individually to review the Draft Supplemental Environmental Impact Statement (DSEIS) for Amendment 11 to the Scallop Fishery Management Plan (FMP) and make final recommendations for the Scallop Committee to consider as preferred alternatives related to limited entry qualification alternatives. In the afternoon, both scallop advisory panels will meet jointly to further review the DSEIS for Amendment 11 to the Scallop FMP and make final recommendations for the Scallop Committee to consider as preferred alternatives related to all other measures in the document. If time permits, the advisors will discuss and develop potential alternatives to improve the industry- funded observer set-aside program for the Scallop Committee to consider for inclusion in Framework 19 to the Scallop FMP. The advisors may consider other topics at their discretion.

2. Tuesday, March 20, 2007; Scallop Committee Meeting, 8:30 a.m.

The committee will review the DSEIS for Amendment 11 and consider input from the Scallop Plan Development Team and advisors concerning final recommendations for preferred alternatives for the Council to consider at the April 2007 Council meeting. If time permits, the Committee will consider further development of alternatives for Framework 19 to the Scallop FMP. Framework 19 is a biennial framework to set management measures for fishing years 2008 and 2009. The Committee may consider other topics at their discretion.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: February 28, 2007.
Tracey L. Thompson,
Acting Director, Office of Sustainable Fisheries Service, National Marine Fisheries Service.

[FR Doc. E7-3787 Filed 3-2-07; 8:45 am]

BILLING CODE 3510-22-S